NATIONAL CREDIT UNION ADMINISTRATION

Notice of Meetings

TIME AND DATE: 10 a.m., Thursday, May 17, 2001.

PLACE: Board Room, 7th Floor, Room 7047, 1775 Duke Street, Alexandria, VA 22314-3428.

STATUS: Open.

MATTERS TO BE CONSIDERED: 1. Request from a Federal Credit Union to Convert to a Community Charter.

2. Request from a Corporate Federal Credit Union for a National Field of Membership.

RECESS: 11:15 a.m.

TIME AND DATE: 11:30 a.m., Thursday, May 17, 2001.

PLACE: Board Room, 7th Floor, Room 7047, 1775 Duke Street, Alexandria, VA 22314-3428.

STATUS: Closed.

MATTERS TO BE CONSIDERED: 1. Administrative Action under Part 704 of NCUA's Rules and Regulations. Closed pursuant to exemption (8).

2. Two (2) Personnel Matters. Closed pursuant to exemptions (2) and (6).

FOR FURTHER INFORMATION CONTACT: Becky Baker, Secretary of the Board, Telephone 703-518-6304.

Becky Baker,
Secretary of the Board.

[FR Doc. 01-12230 Filed 5-10-01; 2:48 pm]

BILLING CODE 7535-01-M